DEPARTMENT OF TRANSPORTATION

Office of the Secretary

Notice of Applications for Certificates of Public Convenience and Necessity and Foreign Air Carrier Permits Filed Under Subpart B (formerly Subpart Q) During the Week Ending November 9, 2007

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause appropriate cases a final order without further proceedings.

Docket Number: DOT-OST-2007-0037.

Date Filed: November 7, 2007.

Due Date for Answers, Conforming Applications, or Motion to Modify Scope: November 28, 2007.

Description: Application of MK Airlines Limited d/b/a British Global Airlines (“BGB”) requesting exemption authority to transport property and mail in foreign charter air transportation between a point or points in the United Kingdom, and a point or points in the United States, either directly or via intermediate or beyond points, with or without stopovers and the right to operate Fifth Freedom cargo charters as authorized on an individual basis under 14 CFR part 212; and a foreign air carrier permit and exemption in foreign charter air transportation of property and mail between (i) a point or points behind any Member State(s) of the European Union, via a point or points in any Member State(s) of the European Union and intermediate points, on the one hand, and a point or points in the United States and beyond on the other hand; (ii) all-cargo charter flights between the United States and any point or points without prior approval; (iii) other charter foreign air transportation of property and mail pursuant to the prior approval requirements under 14 CFR part 212; and (iv) transportation authorized by any additional route or rights made available to European Community carriers in the future. BGB also seeks exemption authority to offer and to contract for the services described prior to March 30, 2008.

Renee V. Wright,
Program Manager, Docket Operations, Federal Register Liaison.

[FR Doc. E8-2475 Filed 2-8-08; 8:45 am]

BILLING CODE 4910-9X-P